DEPARTMENT OF HEALTH AND HUMAN SERVICES

Office of the Secretary

[Document Identifier: HHS-OS-20987-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before January 27, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-20987-60D for reference. Information Collection Request Title: Pre-Test of Instruments of Psychosocial Care for the Treatment of Adults with PTSD.

Abstract: ASPE is requesting to pretest a survey that measures quality of psychotherapy for adults with Post Traumatic Stress Disorder (PTSD) in outpatient treatment settings, defined in terms of the concordance with evidence-based strategies. Despite enormous expenditures and remarkable breakthroughs in treatment, there is a clear gap between what is known about effective treatments for individuals diagnosed with Post Traumatic Stress Disorder (PTSD) and what clinicians actually implement in treatment settings. A quality improvement initiative that measures clinicians' use of evidence based treatment and promotes feedback to providers from the consumers' perspective may enhance the adoption of evidence based services. This could ultimately improve the quality of care and consumer health outcomes.

Need and Proposed Use of the Information: Quality measures of the treatment of PTSD in concordance with evidence-based methods do not currently exist and could be used to reduce this gap. ASPE, in partnership with NIMH, has undertaken this project to pretest 3 surveys (a clinician, clinical supervisor, and consumer measure) of the delivery of evidence based psychotherapies to adults with PTSD. The current data collection is scheduled to occur only once, over a 6 month time period in summer 2014 through winter 2014 at a total of 6 behavioral health care sites.

Likely Respondents: Respondents are clinicians, clinician's supervisors and consumers.

Total Estimated Annualized Burden—Hours
Form name | Number of respondents | Number of responses per respondent | Average burden per response (in hours) | Total burden hours
Clinician (demographics questionnaire) | 36 | 1 | 5/60 | 3
Clinician Supervisor (demographics questionnaire) | 6 | 1 | 5/60 | 1
Clinician (clinician survey) | 36 | 3 | 10/60 | 18
Clinician Supervisor (survey) | 6 | 18 | 10/60 | 18
Consumer | 108 | 1 | 10/60 | 18
Site Coordinator | 6 | 1 | 96 | 576
Total |  |  |  | 634

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Deputy, Information Collection Clearance Officer.

[FR Doc. 2013-28376 Filed 11-26-13; 8:45 am]

BILLING CODE 4150-05-P